DEPARTMENT OF THE INTERIOR

National Park Service

General Management Plan/Draft Environmental Impact Statement for Arkansas Post National Memorial

AGENCY: National Park Service, Interior.

ACTION: Notice of availability of the draft general management plan/draft environmental impact statement for the Arkansas Post National Memorial, Arkansas.

SUMMARY: Pursuant to section 102(2)(C) of the National Environmental Policy Act of 1969, the National Park Service (NPS) announces the availability of the draft environmental impact statement and general management plan (DEIS/DGMP) for Arkansas Post National Memorial (ARPO).

DATES: The DEIS/DGMP will remain available for public review on or after March 17, 2003. No public meetings are scheduled at this time.

ADDRESSES: Copies of the DGMP/DEIS are available by request by writing to Arkansas Post National Memorial, 1741 Old Post Road, Gillett, Arkansas 72055, by telephoning 870-548-2207, or by e-mail arpo_superintendent@nps.gov.

The document is also available to be picked-up in person at the visitor center, 1741 Old Post Road, Gillett, Arkansas. The document can be found on the Internet in the NPS Planning Web site at: http://planning.den.nps.gov/plans.cfm.

FOR FURTHER INFORMATION CONTACT: Edward E. Wood, Jr., Superintendent, Arkansas Post National Memorial, 1741 Old Post Road, Gillett, Arkansas 72055, telephone 870-548-2207, or John Paige, Job Captain, Denver Service Center, 12795 West Alameda Parkway, PO Box 25287, Denver, CO 80225-0287, telephone 303-969-2356.

SUPPLEMENTARY INFORMATION: ARPO consists of two units, the Memorial unit, and Osotouy unit. Together they commemorate the human settlement near the confluence of the Arkansas and Mississippi Rivers and the events associated with the first European settlement in the lower Mississippi River Valley. This is accomplished by interpreting and fostering an appreciation of the interaction of all cultural groups, their histories, and their significance to the region. The purpose of the general management plan is to set forth the basic management philosophy for ARPO and to provide strategies for addressing issues and achieving identified management objectives. The DGMP/DEIS describes and analyzes the environmental impacts of the proposed action and two action alternatives for the future management direction of ARPO. A no action alternative is also evaluated. Our practice is to make comments, including names and home addresses of respondents, available for public review. Individual respondents may request we withhold their home address from the record, which we will honor to the extent allowable by law. There may also be circumstances where we would withhold from the record a respondent's identify, as allowable by law. If you wish us to withhold your name and/or address, you must state this prominently at the beginning of your comment. However, we will not consider anonymous comments. We will make all submissions from organizations or businesses, and from individuals identifying themselves as representatives or officials or organizations or businesses, available for public inspection in their entirety.

Dated: December 10, 2002.
William W. Schenk,
Regional Director, Midwest Region.

[FR Doc. 03-999 Filed 1-15-03; 8:45 am]

BILLING CODE 4310-70-P